SECURITIES AND EXCHANGE COMMISSION

[File No. 500-1]

In the Matter of China Expert Technology, Inc.; Order of Suspension of Trading

October 1, 2007.

It appears to the Securities and Exchange Commission that there is a lack of current and accurate information concerning the securities of China Expert Technology, Inc. (“China Expert”) because of questions regarding the adequacy and accuracy of publicly-disseminated information concerning, among other things, China Expert's: (1) Financial performance and business prospects and (2) current financial condition.

The Commission is of the opinion that the public interest and the protection of investors require a suspension of trading in the securities of the above-listed company.

Therefore, it is ordered, pursuant to section 12(k) of the Securities Exchange Act of 1934, that trading in the above-listed company is suspended for the period from 9:30 a.m. EDT, October 1, 2007 through 11:59 p.m. EDT, on October 12, 2007.

By the Commission.
Nancy M. Morris,
Secretary.

[FR Doc. 07-4915 Filed 10-1-07; 11:45 am]

BILLING CODE 8011-01-P